FEDERAL COMMUNICATIONS COMMISSION

Notice of Public Information Collection(s) Being Reviewed by the Federal Communications Commission

December 20, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 7, 2002. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0054.

Title: Application for Exemption From Ship Station Requirements.

Form No.: FCC Form 820.

Type of Review: Revision of a currently approved collection.

Respondents: Business or other for-profit; and individuals for household.

Number of Respondents: 250.

Estimated Time Per Response: 1.166 hours.

Frequency of Response: On occasion reporting requirement.

Total Annual Burden: 292 hours.

Total Annual Cost: $36,000.

Needs and Uses: FCC rules require this collection of information when exemptions from radio provisions of statute, treaty or international agreements are requested. The data is used by examiners to determine the applicant's qualifications for the requested exemption. The data collected on this form includes the applicant's Taxpayer Identification Number. However, this information will be redacted from public view. This form has been revised to include FCC Registration Number and to correct mailing addresses in the general instructions, where to file completed applications and filing for emergency requests. The estimated average burden and number of respondents has been corrected based on receipts for the past 2 years.

Federal Communications Commission.
Wiliam F. Caton,
Deputy Secretary.

[FR Doc. 02-366 Filed 1-7-02; 8:45 am]

BILLING CODE 6712-01-P